DEPARTMENT OF EDUCATION

Notice of Proposed Information Collection Requests; Federal Student Aid; William D. Ford Federal Direct Loan Program Regulations—Servicemembers Civil Relief Act

SUMMARY: Upon a loan holder's receipt of a written request from a borrower and a copy of the borrower's military orders, the regulations at 34 CFR 685.202 provide that the maximum interest rate (as defined in 50 U.S.C. 527, App. Section 207 (d)) that may be charged on Federal Family Education Loan Program loans made prior to the borrower entering active duty status is six percent while the borrower is on active duty status.

DATES: Interested persons are invited to submit comments on or before November 23, 2012.

ADDRESSES: Written comments regarding burden and/or the collection activity requirements should be electronically mailed to ICDocketMgr@ed.gov or mailed to U.S. Department of Education, 400 Maryland Avenue SW., LBJ, Washington, DC 20202-4537. Copies of the proposed information collection request may be accessed from http://edicsweb.ed.gov, by selecting the “Browse Pending Collections” link and by clicking on link number 04934. When you access the information collection, click on “Download Attachments” to view. Written requests for information should be addressed to U.S. Department of Education, 400 Maryland Avenue SW., LBJ, Washington, DC 20202-4537. Requests may also be electronically mailed to ICDocketMgr@ed.gov or faxed to 202-401-0920. Please specify the complete title of the information collection and OMB Control Number when making your request.

Individuals who use a telecommunications device for the deaf (TDD) may call the Federal Information Relay Service (FIRS) at 1-800-877-8339.

SUPPLEMENTARY INFORMATION: Section 3506 of the Paperwork Reduction Act of 1995 (44 U.S.C. Chapter 35) requires that Federal agencies provide interested parties an early opportunity to comment on information collection requests. The Director, Information Collection Clearance Division, Privacy, Information and Records Management Services, Office of Management, publishes this notice containing proposed information collection requests at the beginning of the Departmental review of the information collection. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: William D. Ford Federal Direct Loan Program (DL) Regulations—Servicemembers Civil Relief Act (SCRA).

OMB Control Number: 1845-0094.

Type of Review: Extension.

Total Estimated Number of Annual Responses: 2,723.

Total Estimated Number of Annual Burden Hours: 681.

Abstract: This request is for an extension of the approved recordkeeping requirements contained in the regulations related to the administrative requirements of the Direct Loan Program. The information collection requirements in these regulations are necessary to reduce administrative burden for program participants, determine eligibility to receive program benefits and to prevent fraud and abuse of program funds proteting taxpayer's interest.

Dated: September 18, 2012.
Darrin A. King,
Director, Information Collection Clearance Division, Privacy, Information and Records Management Services, Office of Management.

[FR Doc. 2012-23437 Filed 9-21-12; 8:45 am]

BILLING CODE 4000-01-P